SECURITIES AND EXCHANGE COMMISSION

Proposed Collection; Comment Request

Upon Written Request, Copies Available From: U.S. Securities and Exchange Commission, Office of Investor Education and Advocacy, Washington, DC 20549-0213.

Extension:

Rule 15Ba2-6T; OMB Control No. 3235-0659; SEC File No. 270-618.

Notice is hereby given that pursuant to the Paperwork Reduction Act of 1995 (44 U.S.C. 3501 et seq.), the Securities and Exchange Commission (“Commission”) is soliciting comments on the existing collection of information provided for in the following rule: Rule 15Ba2-6T—Temporary Registration as a Municipal Advisor; Required Amendments; and Withdrawal from Temporary Registration (17 CFR 240.15Ba2-6T) under the Securities Exchange Act of 1934 (15 U.S.C. 78a et seq.) (“Exchange Act”). The Commission plans to submit this existing collection of information to the Office of Management and Budget (“OMB”) for extension and approval.

Paragraph (a) of Rule 15Ba2-6T requires municipal advisors, as defined in Section 15B(e)(4) of the Exchange Act (15 U.S.C. 78o-4(e)(4)), to electronically file with the Commission on the Commission's Web site at the following link, Municipal Advisor Registration. The information set forth in Form MA-T (17 CFR 249.1300T) to temporarily register or withdraw from temporary registration.

Paragraph (b)(1) of Rule 15Ba2-6T requires municipal advisors to promptly amend their temporary registration whenever information concerning Items 1 (Identifying Information) or 3 (Disciplinary Information) of Form MA-T becomes inaccurate in anyway.

Paragraph (b)(2) of Rule 15Ba2-6T requires municipal advisors to promptly amend their temporary registration whenever they wish to withdraw from registration.

Paragraph (c) of Rule 15Ba2-6T provides that every initial registration, amendment to registration, or withdrawal from registration filed pursuant to this rule constitutes a “report” within the meaning of applicable provisions of the Exchange Act.

Paragraph (d) of Rule 15Ba2-6T provides that every Form MA-T, including every amendment to or withdrawal from registration, is considered filed with the Commission when the electronic form on the Commission's website is completed and the Commission has sent confirmation to the municipal advisor that the form was filed.

Paragraph (e) of Rule 15Ba2-6T provides that all temporary registrations of municipal advisors will expire on the earlier of: (1) The date that the registration is approved or disapproved by the Commission pursuant to a final rule adopted by the Commission establishing another manner of registration and prescribing a form for the registration; (2) the date on which the municipal advisor's temporary registration is rescinded by the Commission; or (3) December 31, 2011.

Paragraph (f) of Rule 15Ba2-6T provides that Rule 15Ba2-6T will expire on December 31, 2011.

The primary purpose of Rule 15Ba2-6T is to provide information about municipal advisors to investors and issuers, as well as the Commission pursuant to the Dodd-Frank Wall Street Reform and Consumer Protection Act.

Commission staff estimates that approximately 1,000 municipal advisors will file Form MA-T. Commission staff estimates that each of the approximately 1,000 municipal advisors will spend an average of 2.5 hours preparing each Form MA-T. Therefore, the estimated total reporting burden associated with completing Form MA-T is 2,500 hours. Additionally, Commission staff estimates that approximately 1,000 municipal advisors will amend their Form MA-T once during the period of September 1, 2010 through December 31, 2011 and that it will take approximately 30 minutes to amend their form, which means the total burden associated with amending Form MA-T is 500 hours. Therefore, the total annual burden associated with completing and amending Form MA-T is 3,000 hours.

The Commission believes that some municipal advisors will seek outside counsel to help them comply with the requirements of Rule 15Ba2-6T and Form MA-T, and assumes that each of the 1,000 municipal advisors will consult outside counsel for one hour for this purpose. The hourly rate for an attorney is $400, according to the Securities Industry and Financial Markets Association's publication titled Management & Professional Earnings in the Securities Industry 2009, as modified by Commission staff to account for an 1,800 hour work year and multiplied by 5.35 to account for bonuses, firm size, employee benefits and overhead. The Commission estimates the total cost for all 1,000 municipal advisors to hire outside counsel to review their compliance with the requirements of Rule 15Ba2-6T and Form MA-T to be approximately $400,000.

Written comments are invited on: (a) Whether the proposed collection of information is necessary for the proper performance of the functions of the Commission, including whether the information shall have practical utility; (b) the accuracy of the Commission's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Please direct your written comments to: Thomas Bayer, Chief Information Officer, Securities and Exchange Commission, c/o Remi Pavlik-Simon, 6432 General Green Way, Alexandria, Virginia 22312 or send an e-mail to: PRA_Mailbox@sec.gov.

November 12, 2010.
Florence E. Harmon,
Deputy Secretary.

[FR Doc. 2010-28983 Filed 11-16-10; 8:45 am]

BILLING CODE 8011-01-P